JUDICIAL CONFERENCE OF THE UNITED STATES

Hearings of the Judicial Conference Committees on Bankruptcy, and Criminal Rules, and the Rules of Evidence

AGENCY: Judicial Conference of the United States, Advisory Committees on Bankruptcy, and Criminal Procedure, and the Rules of Evidence.

ACTION: Notice of Proposed Amendments and Open Hearings.

SUMMARY: The Advisory Committees on Bankruptcy, and Criminal Rules, and the Rules of Evidence have proposed amendments to the following rules:

Bankruptcy Rules: 2003, 2019, 3001, 4004, and 6003, and new Rules 1004.2 and 3002.1, and Official Forms 22A, 22B, and 22C.

Criminal Rules 1, 3, 4, 6, 9, 32.1, 40, 41, 43, and 49, and new Rule 4.1.

Evidence Rule Restyled Evidence Rules 101-1103.

The text of the proposed rules amendments and new rules and the accompanying Committee Notes can be found at the United States Federal Courts' Home Page at http://www.uscourts.gov/rules.

Notice of Proposed Amendments and Open Hearings

The Judicial Conference Committee on Rules of Practice and Procedure submits these proposed rules amendments and new rules for public comment. All comments and suggestions with respect to them must be place in the hands of the Secretary as soon as convenient and, in any event, not later than February 16, 2010. All written comments on the proposed rule amendments can be sent by one of the following three ways: By overnight mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted on the proposed amendments are available to public inspection.

Public hearings are scheduled to be held on the amendments to:

• Bankruptcy Rules in Phoenix, AZ, on January 6, 2010, and in New York, NY, on February 5, 2010;

• Criminal Rules in Phoenix, AZ, on January 8, 2010, and in Atlanta, GA, on January 11, 2010;

• Evidence Rules in San Francisco, CA, on January 29, 2010, and in New York, NY, on February 4, 2010.

Notice of Proposed Amendments and Open Hearings

Those wishing to testify should contact the Committee Secretary at the above address in writing at least 30 days before the hearing.

FOR FURTHER INFORMATION CONTACT: James N. Ishida, Senior Attorney Advisor, Rules Committee Support Office, Administrative Office of the United State Courts, Washington, DC 20544, Telephone (202) 502-1820.

Dated: November 23, 2009.
James N. Ishida,
Senior Attorney Advisor Rules Committee Support Office.

[FR Doc. E9-28378 Filed 11-30-09; 8:45 am]

BILLING CODE 2210-55-M